DEPARTMENT OF ENERGY

Federal Energy Regulatory Commission

Combined Notice of Filings

Take notice that the Commission has received the following Natural Gas Pipeline Rate and Refund Report filings:

Filings Instituting Proceedings

Docket Number: PR18-81-000.

Applicants: Agua Blanca, LLC.

Description: Tariff filing per 284.123(b),(e)/: compliance to 1 to be effective 7/1/2018.

Filed Date: 8/30/18.

Accession Number: 20180830-5199.

Comments/Protests Due: 5 p.m. ET9/20/18.

Docket Numbers: RP18-1131-000.

Applicants: Equitrans, L.P.

Description: Tariff Cancellation: Terminate Non-conforming Negotiated Rate Gathering Agreement to be effective 8/1/2018.

Filed Date: 9/4/18.

Accession Number: 20180904-5069.

Comments Due: 5 p.m. ET 9/17/18.

Docket Numbers: RP18-1132-000.

Applicants: Iroquois Gas Transmission System, L.P.

Description: § 4(d) Rate Filing: 090418 Negotiated Rates—Twin Eagle Resource Management, LLC R-7300-08 to be effective 11/1/2018.

Filed Date: 9/4/18.

Accession Number: 20180904-5070.

Comments Due: 5 p.m. ET 9/17/18.

Docket Numbers: RP18-1133-000.

Applicants: Iroquois Gas Transmission System, L.P.

Description: § 4(d) Rate Filing: 090418 Negotiated Rates—Twin Eagle Resource Management, LLC R-7300-09 to be effective 11/1/2018.

Filed Date: 9/4/18.

Accession Number: 20180904-5072.

Comments Due: 5 p.m. ET 9/17/18.

Docket Numbers: RP18-1134-000.

Applicants: Iroquois Gas Transmission System, L.P.

Description: § 4(d) Rate Filing: 090418 Negotiated Rates—Twin Eagle Resource Management, LLC R-7300-10 to be effective 11/1/2018.

Filed Date: 9/4/18.

Accession Number: 20180904-5073.

Comments Due: 5 p.m. ET 9/17/18.

Docket Numbers: RP18-1135-000.

Applicants: Equitrans, L.P.

Description: Tariff Cancellation: Terminate Negotiated Rate Service Agreement—Hayden Harper to be effective 1/10/2018.

Filed Date: 9/4/18.

Accession Number: 20180904-5075.

Comments Due: 5 p.m. ET 9/17/18.

Docket Numbers: RP18-1136-000.

Applicants: Equitrans, L.P.

Description: § 4(d) Rate Filing: Negotiated Capacity Release Agreements—9/1/2018 to be effective9/1/2018.

Filed Date: 9/4/18.

Accession Number: 20180904-5076.

Comments Due: 5 p.m. ET 9/17/18.

Docket Numbers: RP18-1137-000.

Applicants: El Paso Natural Gas Company, L.L.C.

Description: § 4(d) Rate Filing: Non-Conforming Negotiated Rate Agreement Filing (SoCal Nov 18) to be effective11/1/2018.

Filed Date: 9/4/18.

Accession Number: 20180904-5077.

Comments Due: 5 p.m. ET 9/17/18.

Docket Numbers: RP18-1138-000.

Applicants: Iroquois Gas Transmission System, L.P.

Description: § 4(d) Rate Filing: 090418 Negotiated Rates—DTE Energy Trading, Inc. R-1830-15 to be effective 11/1/2018.

Filed Date: 9/4/18.

Accession Number: 20180904-5081.

Comments Due: 5 p.m. ET 9/17/18.

Docket Numbers: RP18-1139-000.

Applicants: Iroquois Gas Transmission System, L.P.

Description: § 4(d) Rate Filing: 090418 Negotiated Rates—DTE Energy Trading, Inc. R-1830-16 to be effective 11/1/2018.

Filed Date: 9/4/18.

Accession Number: 20180904-5082.

Comments Due: 5 p.m. ET 9/17/18.

Docket Numbers: RP18-1140-000.

Applicants: Iroquois Gas Transmission System, L.P.

Description: § 4(d) Rate Filing: 090418 Negotiated Rates—Freepoint Commodities LLC R-7250-22 to be effective 11/1/2018.

Filed Date: 9/4/18.

Accession Number: 20180904-5102.

Comments Due: 5 p.m. ET 9/17/18.

Docket Numbers: RP18-1141-000.

Applicants: Iroquois Gas Transmission System, L.P.

Description: § 4(d) Rate Filing: 090418 Negotiated Rates—Direct Energy Business Marketing, LLC R-7465-07 to be effective 11/1/2018.

Filed Date: 9/4/18.

Accession Number: 20180904-5110.

Comments Due: 5 p.m. ET 9/17/18.

Docket Numbers: RP18-1142-000.

Applicants: Guardian Pipeline, L.L.C.

Description: § 4(d) Rate Filing: Negotiated Rate PAL Agreements—Wisconsin Public Service Corporation to be effective 9/1/2018.

Filed Date: 9/4/18.

Accession Number: 20180904-5120.

Comments Due: 5 p.m. ET 9/17/18.

Docket Numbers: RP18-1143-000.

Applicants: Iroquois Gas Transmission System, L.P.

Description: § 4(d) Rate Filing: 090418 Negotiated Rates—Macquarie Energy LLC R-4090-17 to be effective 11/1/2018.

Filed Date: 9/4/18.

Accession Number: 20180904-5121.

Comments Due: 5 p.m. ET 9/17/18.

Docket Numbers: RP18-1144-000.

Applicants: Alliance Pipeline L.P.

Description: § 4(d) Rate Filing: Horizon Delivery Point to be effective 10/1/2018.

Filed Date: 9/4/18.

Accession Number: 20180904-5124.

Comments Due: 5 p.m. ET 9/17/18.

Docket Numbers: RP18-1145-000.

Applicants: NEXUS Gas Transmission, LLC.

Description: § 4(d) Rate Filing: NEXUS Non-Conforming Agreements Filing to be effective 10/1/2018.

Filed Date: 9/4/18.

Accession Number: 20180904-5148.

Comments Due: 5 p.m. ET 9/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2018.
Nathaniel J. Davis, Sr.,
Deputy Secretary.

[FR Doc. 2018-19695 Filed 9-10-18; 8:45 am]

BILLING CODE 6717-01-P